DEPARTMENT OF TRANSPORTATION

Federal Railroad Administration

[Docket Number FRA-2011-0089]

Petition for Waiver of Compliance

In accordance with part 211 of title 49 of the Code of Federal Regulations (CFR), this document provides the public notice that by a document dated November 9, 2011, the Association of American Railroads (AAR) and the American Short Line and Regional Railroad Association (ASLRRA) have petitioned the Federal Railroad Administration (FRA) on behalf of their members for a waiver of compliance from certain provisions of the Federal railroad safety regulations contained at 49 CFR part 231, Safety Appliance Standards. FRA assigned the petition Docket Number FRA-2011-0089.

Specifically, AAR and ASLRRA are requesting relief from section 49 CFR Section 231.27(b)(3), which requires that end platforms on boxcars be “centered on each end of car between inner ends of handholds not more than eight (8) inches above top of center sill.” The AAR and ASLRRA request relief for a group of boxcars that have end platforms that may exceed the 8-inch maximum by as much as 2 inches. AAR and ASLRRA stated that more than 18,000 cars and 20 different car owners are affected. The cars were manufactured between 1977 and 2001 as provided in an attachment to the petition. AAR and ALSRRA assert that in order to correct the end platform variance, many cars would require extensive modifications that are costly and labor intensive. Additionally, AAR and ASLRRA stated that one issue is whether the cars in question actually violate 49 CFR 231.27(b)(3) based on the specific method used to measure the sill step relationship to the platform height. AAR and ASLRRA believe that waiver would resolve any end platform variance created by the ambiguous wording contained in 49 CFR 231.27(b)(3). AAR and ASLRRA also stated that they are unaware of any personal injuries or other incidents arising from the height of the end platforms. AAR and ASLRRA believe a permanent waiver would be appropriate instead of the granting of a traditional 5-year waiver.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: (202) 493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 20, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC, on November 30, 2011.
Brenda J. Moscoso,
Director, Office of Safety Analysis, Risk Reduction, and Crossing/Trespasser Programs.

[FR Doc. 2011-31224 Filed 12-5-11; 8:45 am]

BILLING CODE 4910-06-P